DEPARTMENT OF COMMERCE

International Trade Administration

[A-557-813]

Polyethylene Retail Carrier Bags From Malaysia: Final Results of Antidumping Administrative Review; 2018-19

AGENCY: Enforcement and Compliance, International Trade Administration, Department of Commerce.

SUMMARY: On December 22, 2020, the Department of Commerce (Commerce) published the preliminary results of the administrative review of the antidumping duty (AD) order on polyethylene retail carrier bags (PRCBs) from Malaysia. The period of review (POR) is August 1, 2018, through July 31, 2019. We continue to find that PRCBs from Malaysia were not sold at less than normal value during the POR.

DATES: Applicable April 26, 2021.

FOR FURTHER INFORMATION CONTACT: Kyle Clahane, AD/CVD Operations, Office III, Enforcement and Compliance, International Trade Administration, U.S. Department of Commerce, 1401 Constitution Avenue NW, Washington, DC 20230; telephone: (202) 482-5449.

SUPPLEMENTARY INFORMATION:

Background

On December 22, 2020, Commerce published the Preliminary Results of this administrative review.¹ We invited interested parties to comment on the Preliminary Results within 30 days.² No interested party submitted comments or requested a hearing in this administrative review. The current deadline for these final results is April 21, 2021.

¹ See Polyethylene Retail Carrier Bags from Malaysia: Preliminary Results of Antidumping Duty Administrative Review; 2018-2019, 85 FR 83515 (December 22, 2020) (Preliminary Results), and accompanying Preliminary Decision Memorandum.

² See Preliminary Results.

Scope of the Order

The merchandise covered by this order is PRCBs from Malaysia, which may be referred to as t-shirt sacks, merchandise bags, grocery bags, or checkout bags. Imports of merchandise included within the scope of this antidumping duty order are currently classifiable under statistical category 3923.21.0085 of the Harmonized Tariff Schedule of the United States (HTSUS). This subheading may also cover products that are outside the scope of this antidumping duty order. Although the HTSUS subheading is provided for convenience and customs purposes, the written description of the scope of this antidumping duty order is dispositive. For a full description of the scope of the order, see the Preliminary Decision Memorandum.

Final Results of Review

As noted above, Commerce received no comments concerning the Preliminary Results. As there are no changes from, or comments upon, the Preliminary Results, Commerce finds that there is no reason to modify its analysis and calculations. Accordingly, we adopt the analysis and explanation in our Preliminary Results for the purposes of these final results, and we have not prepared an Issues and Decision Memorandum to accompany this Federal Register notice.

The final weighted-average dumping margin for the period August 1, 2018, through July 31, 2019, for Euro SME Sdn. Bhd. (Euro SME) and its affiliated exporter Euro Nature Green Sdn. Bhd. (Euro Nature Green), is as follows:

Producer/exporter | Weighted- average dumping margin (percent)
Euro SME Sdn. Bhd.; and Euro Nature Green Sdn. Bhd | 0.00

Assessment Rates

Commerce has determined, and U.S. Customs and Border Protection (CBP) shall assess, antidumping duties on all appropriate entries in this review, in accordance with section 751(a)(2)(C) of the Tariff Act of 1930, as amended (the Act) and 19 CFR 351.212(b). Where an importer-specific assessment rate is zero or de minimis (i.e., less than 0.5 percent), the entries by that importer will be liquidated without reference to antidumping duties. For entries of Euro SME and Euro Nature Green's merchandise during the period of review for which they did not know the merchandise was destined for the United States, we will instruct CBP to liquidate unreviewed entries at the all-others rate if there is no rate for the intermediate company(ies) involved in the transaction.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication). Because we calculated a zero percent margin for Euro SME and Euro Nature Green, we intend to instruct CBP to liquidate appropriate entries without regard to antidumping duties.³

³ See 19 CFR 351.206(c)(2).

Cash Deposit Requirements

The following deposit requirements will be effective upon publication of this notice of final results of administrative review in the Federal Register for all shipments of PRCBs from Malaysia entered, or withdrawn from warehouse, for consumption on or after the date of publication, as provided by section 751(a)(2)(C) of the Act: (1) The cash deposit rate for Euro SME and Euro Nature Green will be zero, the rate established in the final results of this review; (2) for merchandise exported by producers or exporters not covered in this administrative review but covered in a prior segment of the proceeding, the cash deposit rate will continue to be the company-specific rate published for the most recently completed segment of this proceeding in which the producer or exporter participated; (3) if the exporter is not a firm covered in this review, a prior review, or the original less-than-fair-value investigation but the producer is, then the cash deposit rate will be the rate established for the most recently completed segment of the proceeding for the producer of the merchandise; and (4) the cash deposit rate for all other producers or exporters will continue to be 84.94 percent, the all-others rate established in the antidumping investigation.⁴ These deposit requirements, when imposed, shall remain in effect until further notice.

⁴ See Antidumping Duty Order: Polyethylene Retail Carrier Bags from Malaysia, 69 FR 48203 (August 9, 2004).

Disclosure

Normally, Commerce discloses to interested parties the calculations performed in connection with the final results within five days of the date of publication of the notice of final results in the Federal Register, in accordance with 19 CFR 351.224(b). However, there are no calculations to disclose here because Commerce made no changes to the analysis or calculations in the Preliminary Results.⁵

⁵ For disclosure calculations made in the Preliminary Results, see Memorandum, “Analysis Memorandum for the Preliminary Results of the 2018/2019 Administrative Review of Polyethylene Retail Carrier Bags from Malaysia: Euro SME Sdn Bhd,” dated December 18, 2020.

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Notification Regarding Administrative Protective Orders

This notice also serves as a final reminder to the parties subject to administrative protective order (APO) of their responsibility concerning the disposition of proprietary information disclosed under APO in accordance with 19 CFR 351.305(a)(3). Timely written notification of return or destruction of APO materials or conversion to judicial protective order is hereby requested. Failure to comply with the regulations and the terms of an APO is a sanctionable violation.

Notification to Interested Parties

This determination and notice are issued and published pursuant to sections 751(a)(1) and 777(i)(1) of the Act and 19 CFR 351.221(b)(5).

Dated: April 19, 2021.
Christian Marsh,
Acting Assistant Secretary for Enforcement and Compliance.

[FR Doc. 2021-08631 Filed 4-23-21; 8:45 am]

BILLING CODE 3510-DS-P